DEPARTMENT OF THE INTERIOR

Fish and Wildlife Service

Receipt of Applications for Endangered Species Permits

AGENCY: Fish and Wildlife Service, Interior.

ACTION: Notice.

SUMMARY: The public is invited to comment on the following applications to conduct certain activities with endangered species.

DATES: We must receive written data or comments on these applications at the address given below, by March 19, 2007.

ADDRESSES: Documents and other information submitted with these applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. This notice is provided under section 10(c) of the Endangered Species Act of 1973, as amended (16 U.S.C. 1531 et seq.). If you wish to comment, you may submit comments by any one of the following methods. You may mail comments to the Service's Regional Office (see ADDRESSES section) or via electronic mail (e-mail) to victoria_davis@fws.gov. Please include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: SeaWorld Orlando, John M. Kerivan, Jr., Orlando, Florida, TE134265-0.

The applicant requests authorization to take (receive, hold, rehabilitate, release, euthanize) the Kemp's Ridley sea turtle (Lepidochelys kempii), Hawksbill sea turtle (Eretmochelys imbricata), leatherback sea turtle (Dermochelys coriacea), green sea turtle (Chelonia mydas), loggerhead sea turtle (Caretta caretta), and Olive Ridley sea turtle (Lepidochelys olivacea) while providing medical treatment and rehabilitation services. The proposed activities would occur at Sea World Orlando, Florida.

Applicant: Marine Life Center of Juno Beach, Lawrence D. Wood, Juno Beach, Florida, TE136808-0.

The applicant requests authorization to take (receive, hold, rehabilitate, release, euthanize) the Kemp's Ridley sea turtle (Lepidochelys kempii), Hawksbill sea turtle (Eretmochelys imbricata), leatherback sea turtle (Dermochelys coriacea), green sea turtle (Chelonia mydas), loggerhead sea turtle (Caretta caretta), and Olive Ridley sea turtle (Lepidochelys olivacea) while providing medical treatment and rehabilitation services. The proposed activities would occur at the Marinelife Center of Juno Beach, Juno Beach, Florida.

Applicant: Theater of the Sea, Phelps Felix McKenney, Islamorada, Florida TE136811-0.

The applicant requests authorization to take (receive, hold, rehabilitate, release, euthanize) the Kemp's Ridley sea turtle (Lepidochelys kempii), Hawksbill sea turtle (Eretmochelys imbricata), leatherback sea turtle (Dermochelys coriacea), green sea turtle (Chelonia mydas), loggerhead sea turtle (Caretta caretta), and Olive Ridley sea turtle (Lepidochelys olivacea) while providing medical treatment and rehabilitation services. The proposed activities would occur at the Marinelife Center of Juno Beach, Juno Beach, Florida.

Applicant: Bernard R, Kuhajda, University of Alabama, Tuscaloosa, Alabama; TE137403-0.

The applicant requests authorization to take (capture, collect tissues, collect vouchers, ear tag, release) the watercress darter (Etheostoma nuchale) while conducting presence/absence surveys, abundance/life history surveys, and genetic and life history studies. The proposed activities would occur in stream and spring tributaries to the lower Locust Fork, lower Mulberry Fork, and upper Black Warrior River in Jefferson, Walker, and Tuscaloosa counties, Alabama.

Applicant: Steven Bryan Castleberry, University of Georgia, Athens, Georgia, TE137411-0.

The applicant requests authorization to take (capture, mark, release) the Key Largo cotton mouse (Peromyscus gossypinus allapaticola) and Key Largo woodrat (Neotoma floridana smalli) while conducting population monitoring activities. The proposed activities would occur on the Crocodile Lake National Wildlife Refuge and the Dagny Johnson Key Largo Hammock Botanical State Park, Monroe County, Florida.

Dated: October 18, 2006.
Jeffrey M. Fleming,
Acting Regional Director.

[FR Doc. E7-2751 Filed 2-15-07; 8:45 am]

BILLING CODE 4310-55-P